DEPARTMENT OF HOUSING AND URBAN DEVELOPMENT

[Docket No. FR-5281-N-102]

Notice of Submission of Proposed Information Collection to OMB; Emergency Comment Request Disaster Housing Assistance Program (DHAP) Incremental Rent Transition (IRT) Study: Follow-up Contact

AGENCY: Office of the Chief Information Officer.

ACTION: Notice of proposed information collection.

SUMMARY: The proposed information collection requirement described below has been submitted to the Office of Management and Budget (OMB) for emergency reinstatement and approval, as required by the Paperwork Reduction Act. The Department is soliciting public comments on the subject proposal.

DATES: Comments Due Date: January 4, 2010.

ADDRESSES: Interested persons are invited to submit comments regarding this proposal. Comments must be received within fourteen (14) days from the date of this Notice. Comments should refer to the proposal by name/or OMB approval number and should be sent to: HUD Desk Officer, Office of Management and Budget, New Executive Office Building, Washington, DC 20503; fax: (202)395-5806.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents submitted to OMB may be obtained from Ms. Deitzer.

SUPPLEMENTARY INFORMATION: This Notice informs the public that the U.S. Department of Housing and Urban Development (HUD) has submitted to OMB, for emergency processing, a proposed reinstatement of data collection under OMB Control No. 2528-0256. The Disaster Housing Assistance Program (DHAP) was implemented in 2007 to provide rental assistance and case management services to eligible families displaced by Hurricanes Katrina and Rita. The amount and terms of the rental assistance provided varied over time. Researchers are documenting families as they transition from subsidized to market rate or alternative housing assistance programs and measuring outcomes over time. The DHAP IRT study's findings will assist the Department to understand how to most effectively return recipients of housing assistance to market rate housing following a disaster.

Approximately 1,425 recipients of DHAP assistance responded to an interim survey about their experiences with the program (conducted under OMB Control No. 2528-0256). The purpose of the reinstatement is to conduct follow-up contacts with the respondents to the earlier survey to confirm contact information, current housing and household status, and any potential future moves that might impact the researchers' ability to contact the respondent for a 12-month follow-up telephone survey. The follow-up contact is necessary to maximize the response rate for the 12-month follow-up telephone survey.

This Notice also lists the following information:

Title of Proposal: Disaster Housing Assistance Program (DHAP) Incremental Rent Transition (IRT) Study.

Description of Information Collection: This information collection is a follow-up contact with respondents to a previous survey of recipients of HUD rental assistance under DHAP (conducted under OMB Control No. 2528-0256). The Department of Housing and Urban Development is seeking emergency review of the Paperwork Reduction Act requirements associated with this follow-up contact. The purpose of the contact is to confirm contact information, current housing and household status, and any potential future moves that might impact the researchers' ability to contact the respondent for a 12-month follow-up telephone survey. The follow-up contact is necessary to maximize the response rate for the 12-month follow-up telephone survey.

OMB Control Number: 2528-0256.

Agency Form Numbers: N/A, a brief follow-up contact form will be administered by telephone by the research team.

Members of Affected Public: Recipients of DHAP assistance who responded to an interim survey (conducted under OMB Control No. 2528-0256).

Estimation of the total numbers of hours needed to prepare the information collection including number of respondents, frequency of responses, and hours of responses: The estimated number of respondents is 1,425 and the burden per respondents is 0.13 hours (8 minutes). The total reporting burden is 118.75 hours.

Authority: The Paperwork Reduction Act of 1995, 44 U.S.C. Chapter 35, as amended.

Dated: December 14, 2009.
Lillian Deitzer,
Departmental Reports Management Officer, Office of the Chief Information Officer.

[FR Doc. E9-30148 Filed 12-17-09; 8:45 am]

BILLING CODE 4210-67-P